FEDERAL COMMUNICATIONS COMMISSION

[Report No. 2641]

Petitions for Reconsideration and Clarification of Action in Rulemaking Proceedings

January 7, 2004.

Petitions for Reconsideration and Clarification have been filed in the Commission's Rulemaking proceedings listed in this Public Notice and published pursuant to 47 CFR 1.429(e). The full text of this document is available for viewing and copying in Room CY-A257, 445 12th Street, SW., Washington, DC, or may be purchased from the Commission's copy contractor, Qualex International (202) 863-2893. Oppositions to these petitions must be filed by February 9, 2004. See section 1.4(b)(1) of the Commission's rules (47 CFR 1.4(b)(1)). Replies to an opposition must be filed within 10 days after the time for filing oppositions have expired.

Subject: In the Matter of Promoting Efficient Use of Spectrum Through Elimination of Barriers to the Development of Secondary Markets (WT Docket No. 00-230).

Number of Petitions Filed: 5.

Subject: In the Matter of Digital Broadcast Content Protection (MB Docket No. 02-230).

Number of Petitions Filed: 4.

Subject: In the Matter of Implementation of Section 304 of the Telecommunications Act of 1996 (CS Docket No. 97-80).

Commercial Availability of Navigation Devices.

Compatibility Between Cable Systems and Consumer Electronics Equipment (PP No. 00-67).

Number of Petitions Filed: 6.

Marlene H. Dortch,
Secretary.

[FR Doc. 04-1409 Filed 1-22-04; 8:45 am]

BILLING CODE 6712-01-M